DEPARTMENT OF THE INTERIOR

Office of the Secretary

[RR01115000, 18XR0680A1, RX.R0336902.0019100]

Yakima River Basin Conservation Advisory Group; Request for Nominations

AGENCY: Office of the Secretary, Interior.

ACTION: Notice and request for nominations.

SUMMARY: The U.S. Department of the Interior proposes to appoint members to the Yakima River Basin Conservation Advisory Group (CAG). The Secretary of the Interior, acting as administrative lead, is requesting nominations for qualified persons to serve as members of the CAG.

DATES: Nominations must be postmarked on or before July 20, 2018.

ADDRESSES: Nominations should be sent to Gwendolyn Christensen, Designated Federal Officer, Bureau of Reclamation, 1917 Marsh Rd., Yakima, WA 98901-2058.

FOR FURTHER INFORMATION CONTACT: Gwendolyn Christensen, telephone (509) 575-5848, extension 203; gchristensen@usbr.gov.

SUPPLEMENTARY INFORMATION:

Advisory Committee Scope and Objectives

The Yakima River Basin Water Enhancement Project, authorized by Title XII of the Act of October 31, 1994 (Act), Public Law 103-434, established the Yakima River Basin Water Conservation Program (Basin Conservation Program). The Act authorized the Secretary of the Interior to establish a CAG to provide advice and counsel on the structure, implementation, and oversight of the Basin Conservation Program. The Act also specifies the composition of the members to serve on the CAG.

The Basin Conservation Program is structured to provide economic incentives with cooperative Federal, State, and local funding to stimulate the identification and implementation of structural and nonstructural cost-effective water conservation measures in the Yakima River basin. Improvements in the efficiency of water delivery and use will result in improved streamflows for fish and wildlife and improve the reliability of water supplies for irrigation.

The duties or roles and functions of the CAG are in an advisory capacity only. They are to: (A) Provide recommendations to the Secretary and to the State of Washington regarding the structure and implementation of the Basin Conservation Program, (B) provide recommendations to the Secretary and to the State of Washington regarding the establishment of a permanent program for the measurement and reporting of all natural flow and contract diversions within the basin, (C) structure a process to prepare a basin conservation plan as specified in subsection (f), (D) provide annual review of the implementation of the applicable water conservation guidelines of the Secretary, and (E) provide recommendations consistent with statutes of the State of Washington on rules, regulations, and administration of a process to facilitate the voluntary sale or lease of water.

Membership Criteria

Members of the CAG are appointed by the Secretary and are comprised of—

(A) one representative of the Yakima River basin nonproratable irrigators,

(B) one representative of the Yakima River basin proratable irrigators,

(C) one representative of the Yakama Indian Nation,

(D) one representative of environmental interests,

(E) one representative of the Washington State University Agricultural Extension Service,

(F) one representative of the Department of Wildlife of the State of Washington, and

(G) one individual who shall serve as the facilitator.

At this time, we are particularly interested in applications from representatives of the following: One representative of the Yakama Indian Nation, and one representative of environmental interests.

After consultation, the Secretary of the Interior will appoint the members to the CAG. Members will be selected based on requirements set forth in the Act and their individual qualifications, as well as the overall need to achieve a balanced representation of viewpoints, subject matter expertise, regional knowledge, and representation of communities of interest. CAG member terms are limited to three (3) years from their date of appointment. Following completion of their first term, a CAG member may request consideration for reappointment to an additional term. Reappointment is not guaranteed.

Typically, the CAG will hold one in-person meeting per fiscal year. Between meetings, CAG members are expected to participate in committee work via conference calls and email exchanges. Members of the CAG and its subcommittees serve without pay. However, while away from their homes or regular places of business in the performance of services of the CAG, members may be reimbursed for travel expenses, including per diem in lieu of subsistence, in the same manner as persons employed intermittently in the government service, as authorized by section 5703 of title 5, United States Code.

Individuals who are federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

Nominations should include a resume that provides an adequate description of the nominee's qualifications, particularly information that will enable the Department of the Interior to evaluate the nominee's potential to meet the membership requirements of the Committee and permit the Department of the Interior to contact a potential member. Please refer to the membership criteria stated in this notice.

Any interested person or entity may nominate one or more qualified individuals for membership on the CAG. Persons or entities submitting nomination packages on the behalf of others must confirm that the individual(s) is/are aware of their nomination. Nominations must be postmarked on or before July 20, 2018 and sent to Gwendolyn Christensen, Designated Federal Officer, Bureau of Reclamation, 1917 Marsh Rd., Yakima, WA 98901-2058.

Public Disclosure of Comments

Before including your address, phone number, email address, or other personal identifying information in your nominations and/or comments, you should be aware that your entire comment—including your personal identifying information—may be made publicly available at any time. While you can ask us in your nomination/comment to withhold your personal identifying information from public review, we cannot guarantee that we will be able to do so.

Authority: This notice is published in accordance with Section 9(a)(2) of 5 U.S.C. Appendix 2 (Public Law 92-463, as amended), Federal Advisory Committee Act of 1972.

Dated: June 4, 2018.
Ryan K. Zinke,
Secretary of the Interior.

[FR Doc. 2018-13268 Filed 6-19-18; 8:45 am]

BILLING CODE 4332-90-P